DEPARTMENT OF JUSTICE

Antitrust Division

Notice Pursuant to the National Cooperative Research and Production Act of 1993—ODVA, Inc.

Notice is hereby given that, on November 23, 2012, pursuant to Section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, YJS Co., Ltd., Bucheon City, Gyeonggi-Do, Republic of Korea; Texas Instruments, Incorporated, Dallas, TX; General Cable Industries, Inc., Highland Heights, KY; Kalkitech, Bangalore, India; Krohne Innovation GmbH, Duisburg, Germany; OFC Fitel, LLC, Norcross, GA; GE Intelligent Platforms, Inc., Charlottesville, VA; General Electric Company—Energy Division, Pittsburg, PA; eWON s.a., Nivelles, Belgium; Broadley-James Ltd., Bedford, United Kingdom; Primes GmbH, Pfungstadt, Germany; Altera Corporation, San Jose, CA; 3S-Smart Software Solutions GmbH, Kempten, Germany; Branson Ultrasonics Corporation, Danbury, CT; Beijing KLT Electric Co., Ltd., Beijing, People's Republic of China; Jacktek Systems Inc., Acheson, Alberta, Canada; and GE Multilin, Markham, Ontario, Canada, have been added as parties to this venture.

Also, West Instruments, Brighton, East Sussex, United Kingdom; Littelfuse, Chicago, IL; ICES, Cheonan-si, ChungNam-do, Republic of Korea; Cooper Interconnect, Maynooth, Ireland; TKSCT, Busan, Republic of Korea; Process Automation International Ltd., Hong Kong, Hong Kong-China; ABT Endüstri Enerji Sistemleri Sanayi Tic. Ltd. Sti., Izmir, Turkey; and Tappan Wire and Cable, Blauvelt, NY, have withdrawn as parties to this venture.

No other changes have been made in either the membership or planned activity of the group research project. Membership in this group research project remains open, and ODVA intends to file additional written notifications disclosing all changes in membership.

On June 21, 1995, ODVA filed its original notification pursuant to Section 6(a) of the Act. The Department of Justice published a notice in the Federal Register pursuant to Section 6(b) of the Act on February 15, 1996 (61 FR 6039).

The last notification was filed with the Department on July 18, 2012. A notice was published in the Federal Register pursuant to Section 6(b) of the Act on September 5, 2012 (77 FR 54612).

Patricia A. Brink,
Director of Civil Enforcement, Antitrust Division.

[FR Doc. 2012-30618 Filed 12-18-12; 8:45 am]

BILLING CODE P